FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 9, 2014.

A. Federal Reserve Bank of Minneapolis (Jacqueline G. King, Community Affairs Officer) 90 Hennepin Avenue, Minneapolis, Minnesota 55480-0291:

1. Dawn Crane, Fosston, Minnesota, individually and as trustee; Lorri Skeie-Campbell, Rio Rancho, New Mexico, individually and as trustee; Dawn M. Skeie Crane Irrevocable Trust; Dawn Crane, as co-trustee; Lorri J. Skeie-Campbell Irrevocable Trust, Winger, and Lorri Skeie-Campbell, as co-trustee, all of Winger, Minnesota; to retain and acquire additional voting shares of Financial Services of Winger, Inc., and thereby indirectly retain and acquire additional voting shares of Ultima Bank Minnesota, both in Winger, Minnesota.

Board of Governors of the Federal Reserve System, December 19, 2013.
Michael J. Lewandowski,
Associate Secretary of the Board.

[FR Doc. 2013-30616 Filed 12-23-13; 8:45 am]

BILLING CODE 6210-01-P